DEPARTMENT OF LABOR

Employment and Training Administration

[TA-W-39,471]

Besser Company, Alpena, MI; Notice of Revised Determination on Reconsideration

On April 26, 2002, the Department issued an Affirmative Determination Regarding Application on Reconsideration applicable to workers and former workers of the subject firm. The notice was published in the Federal Register on June 4, 2002 (67 FR 38523).

The Department initially denied TAA to workers of Besser Company, Alpena, Michigan engaged in the production of concrete machinery and equipment because the “contributed importantly” group eligibility requirement of section 222(3) of the Trade Act of 1974, as amended, was not met.

On reconsideration, the Department conducted a sample survey of additional major customers of the subject firm regarding their purchases of concrete machinery and equipment during the relevant period. The survey revealed that some customers increased their reliance on imported concrete machinery and equipment during the relevant period.

Conclusion

After careful review of the additional facts obtained on reconsideration, I conclude that increased imports of articles like or directly competitive with concrete equipment and machinery, contributed importantly to the declines in sales or production and to the total or partial separation of workers of Besser Company, Alpena, Michigan. In accordance with the provisions of the Act, I make the following certification:

All workers of Besser Company, Alpena, Michigan engaged in the production of concrete machinery and equipment who became totally or partially separated from employment on or after May 29, 2000 through two years from date of certification are eligible to apply for adjustment assistance under section 223 of the Trade Act of 1974.

Signed in Washington, DC, this 12th day of July, 2002.
Edward A. Tomchick,
Director, Division of Trade Adjustment Assistance.

[FR Doc. 02-18413 Filed 7-19-02; 8:45 am]

BILLING CODE 4510-30-P